DEPARTMENT OF TRANSPORTATION

Pipeline and Hazardous Materials Safety Administration

[Docket No. PHMSA-PHMSA-2012-0137]

Pipeline Safety: Information Collection Activities

AGENCY: Pipeline and Hazardous Materials Safety Administration (PHMSA), DOT.

ACTION: Notice and request for comments.

SUMMARY: In accordance with the Paperwork Reduction Act of 1995, PHMSA invites comments on a new information collection (IC) to help determine the effectiveness of PHMSA's 811 Public Service Announcement (PSA) campaign. In calendar year 2012, as part of a campaign to raise awareness of 811 as the national “Call Before You Dig” toll-free telephone number, PHMSA produced a 30-second video PSA, a 30-second radio PSA and a 60-second radio PSA. All were produced in both English and Spanish and are available in several formats for downloading and broadcasting. PHMSA seeks to measure the effectiveness of the campaign through an online survey. After the comments to this notice are addressed, PHMSA will request approval for this new information collection from the Office of Management and Budget (OMB).

DATES: Interested persons are invited to submit comments on or before September 4, 2012.

ADDRESSES: Comments may be submitted in the following ways:

E-Gov Web Site: http://www.regulations.gov. This site allows the public to enter comments on any Federal Register notice issued by any agency.

Fax: 1-202-493-2251.

Mail: Docket Management Facility; U.S. DOT, 1200 New Jersey Avenue SE., West Building, Room W12-140, Washington, DC 20590-0001.

Hand Delivery: Room W12-140 on the ground level of the U.S. DOT, West Building, 1200 New Jersey Avenue SE., Washington, DC, between 9 a.m. and 5 p.m., Monday through Friday, except Federal holidays.

Instructions: Identify the docket number, PHMSA-2012-0137, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit http://www.regulations.gov before submitting any such comments.

Docket: For access to the docket or to read background documents or comments, go to http://www.regulations.gov at any time or to Room W12-140 on the ground level of the U.S. DOT, West Building, 1200 New Jersey Avenue SE., Washington, DC, between 9 a.m. and 5 p.m., Monday through Friday, except Federal holidays. If you wish to receive confirmation of receipt of your written comments, please include a self-addressed, stamped postcard with the following statement: “Comments on PHMSA-2012-0137.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by fax at 202-366-4566, or by mail at U.S. DOT, PHMSA, 1200 New Jersey Avenue SE., PHP-30, Washington, DC 20590-0001.

SUPPLEMENTARY INFORMATION: Section 1320.8(d), Title 5, Code of Federal Regulations requires PHMSA to provide interested members of the public and affected agencies an opportunity to comment on information collection and recordkeeping requests. This notice identifies a new information collection request that PHMSA will submit to OMB for approval. The information collection will be titled: “U.S. Department of Transportation Pipeline and Hazardous Materials Safety Administration 811 Awareness Survey.” This information collection will provide the data necessary to measure the effectiveness of the PHMSA 811 PSA campaign. Excavation damage to pipelines is a leading cause of serious incidents involving fatalities and injuries. A call to 811 is the first step in preventing such incidents and PHMSA seeks to increase awareness of this critical safety message to reduce the number of damages to pipelines. Target audiences for the PSA include the general public and small professional excavators. The survey is designed to measure awareness of the importance of calling 811 before beginning an excavation project and the extent to which the PSA influences that awareness and planned behavior. The results of this survey will help shape future PHMSA 811 outreach and educational efforts. PHMSA is proposing an online form for this information collection. A copy of the survey has been placed in the docket and is available for comment. The following information is provided for this information collection: (1) Title of the information collection; (2) OMB control number; (3) Type of request; (4) Abstract of the information collection activity; (5) Description of affected public; (6) Estimate of total annual reporting and recordkeeping burden; and (7) Frequency of collection. PHMSA will request a three-year term of approval for this information collection activity.

PHMSA requests comments on the following information collection:

Title: U.S. Department of Transportation Pipeline and Hazardous Materials Safety Administration 811 Awareness Survey.

OMB Control Number: Pending.

Type of Request: New information collection.

Abstract: PHMSA is conducting a survey of awareness of 811 as the national “Call Before You Dig” toll-free telephone number, the importance of calling 811 before beginning an excavation project and the extent to which the newly released PHMSA PSA is effective in raising awareness about this topic. This data is necessary to measure the effectiveness of the PSA campaign and plan future educational and outreach efforts.

Affected Public: All.

Estimated number of responses: 1,000.

Estimated annual burden hours: 120.

Frequency of collection: One time collection.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on June 27, 2012.
Jeffrey D. Wiese,
Associate Administrator for Pipeline Safety.

[FR Doc. 2012-16456 Filed 7-3-12; 8:45 am]

BILLING CODE 4910-60-P